DEPARTMENT OF LABOR

Employment and Training Administration

[TA-W-65,686]

Pandora Manufacturing, LLC, Pandora, OH; Notice of Termination of Investigation

In accordance with Section 221 of the Trade Act of 1974, as amended, an investigation was initiated on March 26, 2009 in response to a petition filed by a United Automobile, Aerospace, and Agricultural International Union, Region 2-B representative on behalf of workers of Pandora Manufacturing, LLC, Pandora, Ohio.

The petitioner has requested that the petition be withdrawn. Consequently, the investigation has been terminated.

Signed in Washington, DC, this 22nd day of April 2009.
Richard Church,
Certifying Officer, Division of Trade Adjustment Assistance.

[FR Doc. E9-11864 Filed 5-20-09; 8:45 am]

BILLING CODE 4510-FN-P